CONSUMER PRODUCT SAFETY COMMISSION

Sunshine Act Meeting Notice

TIME AND DATE: Friday, May 18, 2018; 2:00 p.m.*

PLACE: Hearing Room 420, Bethesda Towers, 4330 East West Highway, Bethesda, MD 20814.

STATUS: Commission Meeting—Closed to the public.

MATTER TO BE CONSIDERED: Compliance Matter: The Commission staff will brief the Commission on the status of a compliance matter.

CONTACT PERSON FOR MORE INFORMATION: Alberta E. Mills, Secretary, Office of the Secretariat, U.S. Consumer Product Safety Commission, 4330 East West Highway, Bethesda, MD 20814, (301) 504-7479.

* The Commission unanimously determined by recorded vote that Agency business requires calling the meeting without seven calendar days advance public notice.

Dated: May 18, 2018.
Alberta E. Mills,
Secretary.

[FR Doc. 2018-11092 Filed 5-21-18; 11:15 am]

BILLING CODE 6355-01-P